FEDERAL COMMUNICATIONS COMMISSION

[MB Docket No. 08-214; DA 09-1855]

Herring Broadcasting, Inc. v. Time Warner Cable Inc., et al.

AGENCY: Federal Communications Commission.

ACTION: Notice.

SUMMARY: This document clarifies that parties are entitled to file exceptions to the recommended decision of the Administrative Law Judge in the proceedings listed in the SUPPLEMENTARY INFORMATION.

ADDRESSES: Federal Communications Commission, 445 12th Street, SW., Washington, DC 20554.

FOR FURTHER INFORMATION CONTACT: For additional information on this proceeding, contact David Konczal, David.Konczal@fcc.gov, of the Media Bureau, Policy Division, (202) 418-2120.

SUPPLEMENTARY INFORMATION: This is a summary of the Order, DA 09-1855, adopted and released on August 31, 2009. The full text of this document is available for public inspection and copying during regular business hours in the FCC Reference Center, Federal Communications Commission, 445 12th Street, SW., CY-A257, Washington, DC 20554. This document will also be available via ECFS (http://www.fcc.gov/cgb/ecfs/). (Documents will be available electronically in ASCII, Word 97, and/or Adobe Acrobat.) The complete text may be purchased from the Commission's copy contractor, 445 12th Street, SW., Room CY-B402, Washington, DC 20554. To request this document in accessible formats (computer diskettes, large print, audio recording, and Braille), send an e-mail to fcc504@fcc.gov or call the Commission's Consumer and Governmental Affairs Bureau at (202) 418-0530 (voice), (202) 418-0432 (TTY).

Synopsis of the Order

1. On October 10, 2008, the Media Bureau issued a Memorandum Opinion and Hearing Designation Order (“HDO”) referring the above-captioned matters to an Administrative Law Judge for recommended decisions. 73 FR 65312, November 3, 2008. In the HDO, the Media Bureau directed an ALJ to resolve the factual disputes with respect to the claims in each of the above-captioned cases and to “return a recommended decision and a recommended remedy, if necessary, to the Commission * * *.” See id. at 65327-28. The HDO also stated that, upon receipt of the ALJ's recommended decision and remedy, the Commission would make the requisite legal determinations and decide upon appropriate remedies, if necessary. See id. The HDO failed to specify whether parties are entitled to file exceptions to the ALJ's recommended decision. We issue this Order, sua sponte, to remove uncertainty surrounding this issue and clarify that parties are entitled to file exceptions to the ALJ's recommended decision. We direct parties that choose to file exceptions to comply with the procedures and deadlines set forth in Sections 1.276 and 1.277 of the Commission's rules. Sections 1.276 and 1.277 of the Commission's rules pertain to appeal and review of initial decisions. See 47 CFR 1.276, 1.277. As applied here, these rules allow parties to file exceptions to or briefs in support of the ALJ's recommended decision within 30 days after public release of the full text of the recommended decision. See 47 CFR 1.276(a). These rules also provide that parties may file reply briefs within ten days after the time for filing exceptions has expired. See 47 CFR 1.277(c).

2. Accordingly, It is ordered, pursuant to Sections 4(i), 4(j), and 409(b) of the Communications Act of 1934, as amended, 47 U.S.C. 154(i), 154(j), and 409(b), and Section 1.2 of the Commission's rules, 47 CFR 1.2, that parties in the below-captioned matters may file exceptions to the ALJ's recommended decision pursuant to the procedures set forth herein.

3. It is further ordered that all parties to the below-captioned proceedings will be served with a copy of this Order by e-mail and by certified mail, return receipt requested.

4. It is further ordered that a copy of this Order, or a summary thereof, Shall Be Published in the Federal Register.

5. This action is taken pursuant to delegated authority pursuant to Section 0.283 of the Commission's rules. See 47 CFR 0.283.

Herring Broadcasting, Inc. d/b/a WealthTV, Complainant v. Time Warner Cable Inc., Defendant; File No. CSR-7709-P

Herring Broadcasting, Inc. d/b/a WealthTV, Complainant v. Bright House Networks, LLC, Defendant; File No. CSR-7822-P

Herring Broadcasting, Inc. d/b/a WealthTV, Complainant v. Cox Communications, Inc., Defendant; File No. CSR-7829-P

Herring Broadcasting, Inc. d/b/a WealthTV, Complainant v. Comcast Corporation, Defendant; File No. CSR-7907-P

TCR Sports Broadcasting Holding, L.L.P., d/b/a Mid-Atlantic Sports Network, Complainant v. Comcast Corporation, Defendant; File No. CSR-8001-P

Federal Communications Commission.
William T. Lake,
Chief, Media Bureau.

[FR Doc. E9-22828 Filed 9-23-09; 8:45 am]

BILLING CODE 6712-01-P